DEPARTMENT OF TRANSPORTATION

National Highway Traffic Safety Administration

49 CFR Part 571

[Docket No. NHTSA-2001-9600; Notice 1]

Federal Motor Vehicle Safety Standards; FMVSS No. 121, Air Brake Systems

AGENCY: National Highway Traffic Safety Administration (NHTSA), DOT.

ACTION: Denial of petition for rulemaking, Motor & Equipment Manufacturers Association—Heavy Duty Brake Manufacturers Council

SUMMARY: On January 16, 2001, the Heavy Duty Brake Manufacturers Council (HDBMC) of the Motor & Equipment Manufacturers Association petitioned NHTSA to delay the implementation date for transmittal of antilock braking system (ABS) malfunction signals from trailers to tractors and trucks that are equipped to tow trailers. These requirements are specified in S5.1.6.2(b) for trucks and tractors, and S5.2.3.2 for trailers, of FMVSS No. 121, Air Brake Systems. The petitioner cites difficulties of its member companies in obtaining suitable computer chips at a reasonable cost to perform the ABS malfunction signal communications. However, the agency believes that the member companies' failure to reach suitable business arrangements with their supplier and a holder of a patent on this technology has resulted in this situation. The agency notes that nearly five years of lead time was provided to meet these requirements. The current difficulties cited by the petitioner normal commercial problems, not a lack of available technology. This petition is denied.

FOR FURTHER INFORMATION CONTACT: Mr. Jeff Woods, Office of Crash Avoidance Standards, National Highway Traffic Safety Administration, 400 Seventh Street, SW., Washington, DC 20590. Telephone (202) 366-6206; fax (202) 366-4329.

SUPPLEMENTARY INFORMATION: NHTSA has been petitioned by the Heavy Duty Brake Manufacturers Council (HDBMC) to delay implementation of the in-cab warning lamp requirements in FMVSS No. 121. These requirements became effective March 1, 2001. The HDBMC petition dated January 16, 2001, asked for a one-year extension to March 1, 2002. The requirements apply to air-braked vehicles that tow or are towed by other air-braked vehicles, such as tractors, trucks, trailers, and converter dollies. The in-cab warning lamp provides the driver with an indication on the truck instrument panel that there is a malfunction in the ABS of a towed vehicle, so that the driver can identify such malfunctions and have them corrected. The requirements for ABS malfunction signaling between towed and towing vehicles were originally adopted in a final rule issued on March 10, 1995 (60 FR 13216). These requirements underwent slight revisions and were finalized in their present form in a final rule issued on May 31, 1996 (61 FR 27288).

In 1997, the industry formed the PLC-4-TRUCKS consortium to develop a system to transmit the trailer ABS malfunction signals between towing and towed vehicles. The industry believed that the systems commercially-available at that time did not meet all of the industry's needs, which include the ability of the system to be incorporated into the ABS electronic control units installed on the subject vehicles; the availability of a system that is not proprietary and thus any manufacturer could produce the needed components; and the ability of the system to work within the existing wiring common among heavy-duty tractors and trailers.

The PLC-4-TRUCKS system that was developed by the consortium uses computer chips manufactured by Intellon Corporation that provide spread-spectrum data communications capability over a power line, or power line carrier (PLC). These chips, which are used in other commercial applications, were adapted to heavy-duty truck use and through the PLC-4-TRUCKS consortium, a communications protocol was developed. As HDBMC states in their petition, Alan Lesesky of VES Corporation was granted a patent in October, 2000, which covers the use of spread-spectrum data communications on tractor-trailer applications, and subsequently VES filed a lawsuit against Intellon alleging patent infringement issues. Prior to filing the lawsuit, VES offered licensing agreements to the manufacturers of heavy-duty ABS systems to enable them to use this technology. As stated in the petition, the HDBMC believes that the licensing fees proposed by VES are commercially unreasonable and inconsistent with past licensing arrangements for products covered by Society of Automotive Engineers (SAE) or NHTSA standards.

NHTSA notes that as early as 1998, the agency was prepared to initiate rulemaking to mandate one of the commercially-available systems for the purpose of communicating trailer ABS warning lamp signals, to ensure that the industry would comply with the March 1, 2001 compliance date. However, the agency was assured by the industry that the PLC-4-TRUCKS solution was indeed that way that the industry wanted to go and that such a mandate was unnecessary. The agency heeded the industry's recommendations and subsequently did not begin the rulemaking process for such a mandate.

NHTSA contacted VES and Intellon attorneys for an update on the lawsuit by VES against Intellon. The attorney for VES indicated that one of the HDBMC member companies, Eaton Corporation, had negotiated and signed a licensing agreement with VES to use the spread-spectrum technology for trailer ABS warning lamp purposes. The VES attorney indicated that he believed other ABS manufacturers would follow suit. The agency believes that if suitable licensing agreements are made between the ABS manufacturers and VES, then the lawsuit would be terminated so that manufacturing the PLC-4-TRUCKS system with the Intellon computer chips could resume.

The agency therefore denies the petition for a one-year extension of the March 1, 2001, compliance date for trailer ABS malfunction signals. The technology is available to transmit the trailer ABS malfunction signals. The agency believes that this issue is a business matter that the ABS suppliers need to work out with appropriate parties, including Intellon, VES, and the vehicle manufacturers to whom they sell their products. The agency notes that it was prepared to mandate one of the older, commercial systems on the market, but the agency was persuaded not to do so. Under these circumstances the fact that the vehicle manufacturers do not want to pay the amount proposed by VES is not an adequate basis to extend the effective date. Further, the agency notes that the cost of ABS in general has decreased significantly (i.e., a factor of two or three) compared to ABS costs prior to the tractor ABS mandate of March 1, 1997, and that the cost to incorporate the trailer ABS malfunction signaling would only amount to a small increase in the cost of current ABS equipment.

Issued on May 21, 2001.
Stephen R. Kratzke,
Associate Administrator for Safety Performance Standards.

[FR Doc. 01-13184 Filed 5-24-01; 8:45 am]

BILLING CODE 4910-59-U